DEPARTMENT OF THE INTERIOR

Fish and Wildlife Service

50 CFR Part 17

[Docket No. FWS-R2-ES-2013-0098; FXES11130900000C2-134-FF09E32000]

RIN 1018-AY46

Endangered and Threatened Wildlife and Plants; Notice of Intent To Prepare an Environmental Impact Statement for the Proposed Revision to the Nonessential Experimental Population of the Mexican Wolf (Canis lupus baileyi)

AGENCY: Fish and Wildlife Service, Interior.

ACTION: Proposed rule; notice of intent to prepare an environmental impact statement.

SUMMARY: We, the U.S. Fish and Wildlife Service, will prepare a draft environmental impact statement pursuant to the National Environmental Policy Act of 1969, as amended, in conjunction with a proposed rule to revise the existing nonessential experimental population designation of the Mexican wolf (Canis lupus baileyi) under section 10(j) of the Endangered Species Act of 1973, as amended.

DATES: We will accept comments received or postmarked on or before September 19, 2013. Comments submitted electronically using the Federal eRulemaking Portal (see ADDRESSES) must be received by 11:59 p.m. Eastern Time on the closing date.

ADDRESSES: You may submit written comments by one of the following methods:

(1) Electronically: Go to the Federal eRulemaking Portal: http://www.regulations.gov. Search for FWS-R2-ES-2013-0098, which is the docket number for this notice. You may submit a comment by clicking on “Comment Now!”

(2) By hard copy: Submit by U.S. mail or hand-delivery to: Public Comments Processing, Attn: FWS-R2-ES-2013-0098; Division of Policy and Directives Management; U.S. Fish and Wildlife Service; 4401 N Fairfax Drive, MS 2042-PDM; Arlington, VA 22203.

We request that you send comments only by the methods described above. We will post all comments on http://www.regulations.gov. This generally means that we will post any personal information you provide us (see the Information Requested section below for more information). To increase our efficiency in downloading comments, groups providing mass submissions should submit their comments in an Excel file.

FOR FURTHER INFORMATION CONTACT: Mexican Wolf Recovery Program, U.S. Fish and Wildlife Service, New Mexico Ecological Services Field Office, 2105 Osuna Road, NE., Albuquerque, NM 87113 or by telephone 505-761-4704. If you use a telecommunications device for the deaf (TDD), call the Federal Information Relay Service (FIRS) at 800-877-8339. Additional information can be viewed on the Mexican Gray Wolf Recovery Program's Web site at http://www.fws.gov/southwest/es/mexicanwolf/index.cfm.

SUPPLEMENTARY INFORMATION:

Previous Federal Actions

We established a nonessential experimental population of Mexican wolves in 1998 (63 FR 1752, January 12, 1998) pursuant to section 10(j) of the Endangered Species Act of 1973, as amended (16 U.S.C. 1531 et seq.).

On August 7, 2007, we published a notice of intent in the Federal Register (72 FR 44065) to initiate the planning process for preparation of an environmental impact statement (EIS), pursuant to the National Environmental Policy Act (NEPA 42 U.S.C. 4321 et seq.), to modify our Mexican wolf nonessential experimental population designation (63 FR 1752, January 12, 1998). We held 12 public informational sessions in the communities and on the dates listed in our scoping report, which is available at http://www.fws.gov/southwest/es/mexicanwolf/documents.cfm and at http://www.regulations.gov at Docket No. FWS-R2-ES-2013-0098.

On June 13, 2013, we published a proposed rule to revise our existing Mexican wolf nonessential experimental population designation (78 FR 35719).

Background

The proposed rule (78 FR 35719, June 12, 2013), together with the proposed implementation of a soon-to-be-released management plan for Mexican wolves in areas of Arizona and New Mexico that are outside of the experimental population area, form the basis of the proposed action of our EIS. The EIS will consider reasonable alternatives for revisions to the geographic boundaries and management regulations of the current Mexican wolf nonessential experimental population (63 FR 1752, January 12, 1998), and the implementation of a management plan for the Mexican wolf in those portions of Arizona and New Mexico external to the Mexican Wolf Experimental Population Area (MWEPA). The EIS will analyze the environmental consequences of a range of alternatives to the proposed action that include: revisions to the geographic boundaries of the MWEPA and Blue Range Wolf Recovery Area (BRWRA), modifications to the regulations for management of the nonessential experimental population of Mexican wolves, and implementation of a management plan for Mexican wolves in areas of Arizona and New Mexico external to the MWEPA.

The Service will act as the Lead Federal Agency responsible for completion of the EIS (40 CFR 1508.16). We are requesting those Federal and State agencies, local governments, and Tribes that may have jurisdiction by law or special expertise to serve as cooperating agencies in the development of the EIS (40 CFR 1501.6 and 1508.5, 1508.15, 1508.26).

We are continuing the scoping process for this EIS that we began in 2007. We will use the comments received during the 2007 public scoping, as well as comments received during this scoping period, in the preparation of our draft EIS.

Information Requested

We are currently seeking comments or suggestions from the public, governmental agencies, Tribes, the scientific community, industry, or any other interested parties concerning the scope of the EIS, pertinent issues we should address, and alternatives that should be analyzed. Specifically, we are interested in comments on the preliminary draft EIS statement of our purpose and need, our proposed action and alternatives, and the alternatives that we have considered but are not bringing forward for further analysis in a draft EIS. To guide public input, we are making available a factsheet as well as preliminary chapters 1 and 2 of a draft EIS for the proposed revision of the nonessential experimental population of the Mexican wolf and implementation of a management plan.

Please note that submissions merely stating support for or opposition to the proposed action and alternatives under consideration, without providing supporting information, although noted, will not be considered in making a determination. Please consider the following when preparing your comments:

• Be as succinct as possible.

• Organize comments beginning with general comments and then move on to specific document sections including page and line numbers in your comment.

• Be specific. Comments supported by logic, rationale, and citations are more useful than opinions.

• State suggestions and recommendations clearly with an expectation of what you would like the Service to do.

• If you comment specifically on the proposed action and alternatives, please tell us what you believe the trade-offs and differences are between alternatives.

• If you propose an additional alternative for consideration, please provide supporting rationale and why you believe it to be a reasonable alternative that would meet the purpose and need for our proposed action.

• If you provide alternate interpretations of science, please support your analysis with appropriate citations.

• If possible, coordinate your comments with other like-minded individuals and organizations. This can strengthen the comment and help us understand the depth of concern.

We have developed several possible alternatives to improve progress toward our reintroduction objective to establish a viable, self-sustaining experimental population of Mexican wolves in the MWEPA and to more effectively manage Mexican wolves throughout Arizona and New Mexico. We do not yet know what the preferred alternative or environmentally preferred alternative may be in the EIS, and we recognize that there may be other reasonable alternatives that we should consider. Therefore, we are seeking comments and suggestions on a number of issues for consideration in preparation of the draft EIS including but not limited to:

• Geographic boundary changes that: Remove the designation of a White Sands Wolf Recovery Area (WSWRA); expand the geographic boundaries of the BRWRA; modify the geographic boundaries of the MWEPA by removing a portion of the MWEPA that occurs in Texas; extend the southern boundary of the MWEPA in Arizona and New Mexico to create an expanded MWEPA; and eliminate the designation of a Primary Recovery Zone (PRZ) and Secondary Recovery Zone (SRZ) within the BRWRA.

• Management changes that: Provide for the initial release of captive-raised Mexican wolves throughout the expanded BRWRA; allow the natural dispersal of wolves from the BRWRA into the MWEPA; provide for the translocation of wolves within the MWEPA pursuant to an authorized management purpose; and modify the provisions for the take of wolves within the MWEPA.

• Development and implementation of management actions on private land within the MWEPA by the Service or an authorized agency to benefit Mexican wolf recovery in voluntary cooperation with private landowners, including but not limited to, initial release and translocation of wolves if requested by the landowner.

• Development and implementation of management actions on tribal land within the MWEPA by the Service or an authorized agency in voluntary cooperation with tribal governments including but not limited to initial release, translocation, capture, and removal of Mexican wolves if requested by the tribal government.

• Implementation of a Mexican Wolf Management Plan for those portions of Arizona and New Mexico not included as part of the MWEPA.

The alternatives we develop will be analyzed pursuant to NEPA in our draft EIS. We will give separate notice of the availability of the draft EIS for public comment when it is completed. We will hold public hearings and informational sessions so that interested and affected people may comment on the draft EIS and provide input into the final decision.

You may submit your comments and materials by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we use in preparing the draft EIS, will be available for public inspection on http://www.regulations.gov, at Docket No. FWS-R2-ES-2013-0098, or by appointment, during normal business hours, at the U.S. Fish and Wildlife Service, New Mexico Ecological Services Field Office (see FOR FURTHER INFORMATION CONTACT).

References and Availability of Documents for Review

We have developed a Web page for NEPA planning on our Southwest Region Ecological Services Mexican Wolf Recovery Program Web site. In cooperation with the U.S. Department of Agriculture, Forest Service, Southwest Region, we have also established information repositories at the Supervisor Offices for the National Forests throughout the project study area. To access the documents we are making available for review, please visit our Web site: http://www.fws.gov/southwest/es/mexicanwolf/NEPA.cfm or http://www.regulations.gov at Docket No. FWS-R2-ES-2013-0098, or visit the following locations:

Carson National Forest, 208 Cruz Alta Road, Taos, NM 87571.

Cibola National Forest, 2113 Osuna Rd. NE., Albuquerque, NM 87113.

Gila National Forest, 3005 E. Camino del Bosque, Silver City, NM 88061-7863.

Lincoln National Forest, 3463 Los Palomas Blvd., Alamogordo, NM 88310.

Santa Fe National Forest, 11 Forest Lane, Santa Fe, NM 87508.

Apache-Sitgreaves National Forests, 30 South Chiricahua Street, P.O. Box 640, Springerville, AZ 85938.

Coconino National Forest, 1824 S. Thompson Street, Flagstaff, AZ 86001.

Coronado National Forest, Federal Building, 300 West Congress, Tucson, AZ 85701.

Kaibab National Forest, 800 S. 6th Street, Williams, AZ 86046.

Authors

The primary authors of this notice are the staff members of the Mexican Wolf Recovery Program, U.S Fish and Wildlife Service, Southwest Region (see FOR FURTHER INFORMATION CONTACT).

Authority

The authority for this action is the Endangered Species Act of 1973 (16 U.S.C. 1531 et seq.) and the National Environmental Policy Act of 1969 (42 U.S.C. 4321 et seq.).

Dated: July 25, 2013.
Rachel Jacobson,
Principal Deputy Assistant Secretary for Fish and Wildlife and Parks.

[FR Doc. 2013-18823 Filed 8-2-13; 8:45 am]

BILLING CODE 4310-55-P